DEPARTMENT OF DEFENSE

Department of the Army

Army Science Board (ASB)

AGENCY: Department of the Army, DOD.

ACTION: Notice; correction.

SUMMARY: The notice of an open meeting scheduled for Sep 15, 2009 published in the Federal Register on August 31, 2009 (74 FR 44828) has a revised classification and agenda. The survivability and deployability study of ground platforms session (1230-1330) will be a classified session at the Secret clearance level. A second unclassified session (1345-1430) has been added to adopt recommendations from the ASB Installation 2025 study. The meeting will now be adjourned at 1445 EDT.

FOR FURTHER INFORMATION CONTACT: Dennis Schmidt, Army Science Board Secretariat, at 703-604-7474

SUPPLEMENTARY INFORMATION: Public attendees desiring to attend the classified session must have a Secret clearance and a need to know the information related to the survivability topic. Please contact Mr. Justin Bringhurst at 703-604-7468 or justin.bringhurst@us.army.mil to arrange access to this meeting.

Brenda S. Bowen,
Army Federal Register Liaison Officer.

[FR Doc. E9-21369 Filed 9-3-09; 8:45 am]

BILLING CODE 3710-08-P